DEPARTMENT OF THE INTERIOR

National Park Service

[NPS-WASO-NAGPRA-NPS0038302; PPWOCRADN0-PCU00RP14.R50000]

Notice of Intended Repatriation: University of Tennessee, Department of Anthropology, Knoxville, TN, and Tennessee Department of Environment and Conservation, Division of Archaeology, Nashville, TN

AGENCY: National Park Service, Interior.

ACTION: Notice.

SUMMARY: In accordance with the Native American Graves Protection and Repatriation Act (NAGPRA), the University of Tennessee, Department of Anthropology (UTK) and the Tennessee Department of Environment and Conservation, Division of Archaeology (TDEC-DOA) intend to repatriate certain cultural items that meet the definition of sacred objects and that have a cultural affiliation with the Indian Tribes or Native Hawaiian organizations in this notice.

DATES: Repatriation of the cultural items in this notice may occur on or after August 19, 2024.

ADDRESSES: Dr. Ellen Lofaro, University of Tennessee, Office of Repatriation, 5723 Middlebrook Pike, Knoxville, TN 37921-6053, telephone (865) 974-3370, email nagpra@utk.edu and Phillip R. Hodge, Tennessee Department of Environment and Conservation, Division of Archaeology, 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of UTK and TDEC-DOA, and additional information on the determinations in this notice, including the results of consultation, can be found in the summary or related records. The National Park Service is not responsible for the determinations in this notice.

Abstract of Information Available

A total of five cultural items have been requested for repatriation. The five sacred objects are five dog burials (remains and associated objects). These dog burials were removed from 40GL26, the Bailey site, in Giles County, TN. The Bailey site was identified during an archeological survey by the Tennessee Department of Transportation (TDOT) due to proposed replacement of a bridge over Sugar Creek and relocation of part of State Route 11. TDOT applied for and received the required permits from TDEC-DOA, and UTK was contracted to excavate. UTK excavated from May 20 to August 23, 1986. All cultural material and disinterred burials were transferred to UTK, where they have been housed since. To our knowledge, no known hazardous substances were used to treat any of the cultural items.

Giles County, TN is part of lands ceded to the United States by the Chickasaw, as recorded in, Treaty with the Chickasaw, 1805. Giles County, TN is also part of lands ceded to the United States by the Cherokee, as recorded in, Treaty with the Cherokee, 1806, and Treaty with the Cherokee, 1807. Tribal oral tradition also establishes that Muscogee (Creek) Ancestors once inhabited Giles County.

These objects were identified as sacred objects through consultation; specifically in reference to the role of the white dog Ofi' Tohbi Ishto' in the Chickasaw Migration story and the need of The Chickasaw Nation to venerate these animals alongside ancestral remains in current day reburial practices.

Determinations

UTK and TDEC-DOA have determined that:

• The five sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Cherokee Nation; Eastern Band of Cherokee Indians; Poarch Band of Creek Indians; The Chickasaw Nation; and The Muscogee (Creek) Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 19, 2024. If competing requests for repatriation are received, UTK and TDEC-DOA must determine the most appropriate requestor prior to repatriation. Requests for joint repatriation of the cultural items are considered a single request and not competing requests. UTK and TDEC-DOA are responsible for sending a copy of this notice to the Indian Tribes and Native Hawaiian organizations identified in this notice and to any other consulting parties.

Authority: Native American Graves Protection and Repatriation Act, 25 U.S.C. 3004 and the implementing regulations, 43 CFR 10.9.

Dated: July 10, 2024.
Melanie O'Brien,
Manager, National NAGPRA Program.

[FR Doc. 2024-15831 Filed 7-17-24; 8:45 am]

BILLING CODE 4312-52-P